SMALL BUSINESS ADMINISTRATION

Federal Assistance for Women's Business Centers (WBC) Sustainability Pilot Program To Provide Financial Counseling and Other Technical Assistance to Women

AGENCY: U.S. Small Business Administration.

ACTION: Program Announcement No. OWBO-2001-016.

SUMMARY: The U.S. Small Business Administration (SBA) plans to issue program announcement No. OWBO-2001-016 to invite applications from eligible nonprofit organizations to conduct Women's Business Center (WBC) projects. Eligible applicants are nonprofit organizations that have received financial assistance from SBA under its WBC Program. To be eligible the applicant must be either in the final year of its WBC 5-year project or have completed a WBC project financed by SBA which continues to provide assistance to women entrepreneurs. Funds will be provided to continue business training, counseling and technical assistance to women for an additional 5-year period. The authorizing legislation to establish this 4-year pilot program is the Women's Business Center Sustainability Act and the Small Business Act, §§ 2(h) and 29, 15 U.S.C. §§ 631(h) and 656. SBA Headquarters must receive applications/proposals by 4:00 p.m., Eastern Standard Time, on the closing date of the application period. SBA will select successful applicants using a competitive process. Applications will be reviewed and awarded simultaneously with other applications for first-time WBCs submitted under Program Announcement No. OWBO-2001-015.

Service and assistance areas must include financial, management, marketing, loan packaging, eCommerce and government procurement/certification assistance. Applicants must plan to include women who are socially and economically disadvantaged in the target group. The applicant may propose specialized services that will assist women in Empowerment Zones, women who are veterans, women with disabilities, women with home-based businesses, women in agribusiness, or women in rural or urban areas. SBA will require award recipients to provide content and support to the SBA-funded Online Women's Business Center, (www.onlinewbc,org) and provide training on the business uses of the Internet. Applicants' technical proposal must contain information about its current status and past performance, and a 5-year plan for service delivery, fund-raising, training and technical assistance activities. A center may receive financial assistance up to three years (this is the second year of the four year pilot program) during the pilot's authorization period, however, the award will be issued annually to conduct a 12-month project.

The non-Federal match requirement is one non-Federal dollar for each Federal dollar in years 1 through 5 of the project. Up to one-half of the non-Federal matching funds may be in the form of in-kind contributions.

DATES: The application period will be from late September 2000 to mid-November 2000.

FOR FURTHER INFORMATION CONTACT: Sally Murrell, (202) 205-6673 or Mina Wales (202) 205-7080.

Sherrye P. Henry,
Assistant Administrator, SBA/Office of Women's Business Ownership.

[FR Doc. 00-20872 Filed 8-16-00; 8:45 am]

BILLING CODE 8025-01-P